DEPARTMENT OF TRANSPORTATION

Federal Aviation Administration

14 CFR Part 39

[Docket No. FAA-2006-25423; Directorate Identifier 2006-NM-029-AD]

RIN 2120-AA64

Airworthiness Directives; Airbus Model A300 Airplanes

AGENCY: Federal Aviation Administration (FAA), Department of Transportation (DOT).

ACTION: Notice of proposed rulemaking (NPRM).

SUMMARY: The FAA proposes to supersede an existing airworthiness directive (AD) that applies to all Airbus Model A300 airplanes. The existing AD currently requires repetitive inspections for cracking and corrosion in the lower rim area of the rear pressure bulkhead and adjacent areas, repetitive inspections for cracking or corrosion in the service apertures and the upper rim area of the rear pressure bulkhead, and corrective actions if necessary. This proposed AD would remove certain repetitive inspections and reduce the repetitive interval of one inspection. This proposed AD would also require an inspection for missing or damaged sealant of the area between the outer attachment angle and circumferential joint doubler, and corrective action if necessary. This proposed AD would also require additional inspections for corrosion of certain areas and repetitive inspections for airplanes on which repairs have been done. This proposed AD results from reports of corrosion and cracking in the various components associated with the rear pressure bulkhead. We are proposing this AD to prevent reduced structural capability of the fuselage and consequent decompression of the airplane.

DATES: We must receive comments on this proposed AD by August 31, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France for service information identified in this proposed AD.

FOR FURTHER INFORMATION CONTACT: Thomas Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-25423; Directorate Identifier 2006-NM-029-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On January 8, 1990, we issued AD 90-03-08, amendment 39-6481 (55 FR 1799, January 19, 1990), for all Airbus Model A300 series airplanes. That AD requires repetitive inspections for cracking and corrosion in the lower rim area of the rear pressure bulkhead and adjacent areas, repetitive inspections for cracking or corrosion in the service apertures and the upper rim area of the rear pressure bulkhead, and corrective actions if necessary. That AD resulted from reports of corrosion and cracking in the various components associated with the rear pressure bulkhead. We issued that AD to prevent reduced structural capability of the fuselage and subsequent decompression of the airplane.

Actions Since Existing AD Was Issued

Since we issued AD 90-03-08, we have issued AD 2005-26-16, amendment 39-14437 (70 FR 77307, December 30, 2005), for certain Airbus Model A300 B2 and A300 B4 series airplanes; A300 B4-600, B4-600R, and F4-600R series airplanes, and C4-605R Variant F airplanes (collectively called A300-600 series airplanes); and Airbus Model A310-200 and A310-300 series airplanes. That AD requires repetitive inspections for corrosion on the rear pressure bulkhead between stringer (STGR) 27 right hand (RH) and STGR 27 left hand (LH), and related investigative and corrective actions if necessary. The inspections for the Model A300 B2 and A300 B4 series airplanes are done in accordance with Airbus Service Bulletin A300-53-0363, Revision 01, dated June 10, 2005. Service bulletin A300-53-0363 supersedes Airbus Service Bulletin A300-53-0217, which is cited as an appropriate source of service information for doing the actions required by paragraphs A., B., and C. of AD 90-03-08. Therefore, we have not included the requirements of paragraphs A., B., and C. of AD 90-03-08 in this proposed AD.

Relevant Service Information

Airbus has issued service bulletin A300-53-0218, Revision 02, dated May 10, 2005. Airbus Service Bulletin A300-53-218, Revision 1, dated July 28, 1989, is cited as an appropriate source of service information for doing certain inspections required by AD 90-03-08. Revision 2 of the service bulletin describes the following procedures:

• Repetitive inspections for corrosion and cracking of the upper rim area of the rear pressure bulkhead from the aft face.

• Repetitive eddy current inspections for cracks and corrosion from the outboard side in certain areas, as applicable.

• Repetitive inspections for cracks and corrosion of the service apertures in the rear pressure bulkhead.

• Repetitive eddy current inspections for cracks and corrosion of the apertures for the auxiliary power unit (APU) bleed-air and fuel.

• Repetitive inspections of the area between the outer attachment angle and circumferential joint doubler to determine if sealant is missing or damaged.

• If any cracking or corrosion is found during an inspection, the service bulletin specifies doing a repair or contacting the manufacturer.

Revision 02 of the service bulletin provides basically the same procedures as Revision 1 for the inspections for corrosion and cracking in the area of the rear pressure bulkhead, and repair if necessary. However, Revision 02 of the service bulletin specifies reduced repetitive intervals for the eddy current inspections of the APU bleed-air line. Revision 02 also removes certain airplanes from the inspection of the area between STGR 25 LH and RH and certain other airplanes from the inspection of the area between STGR 26 LH and RH.

Accomplishing the actions specified in the service information is intended to adequately address the unsafe condition. The Direction Générale de l'Aviation Civile (DGAC), which is the airworthiness authority for France, mandated the service information and issued French airworthiness directive F-2005-093 R1, dated August 3, 2005, to ensure the continued airworthiness of these airplanes in France.

FAA's Determination and Requirements of the Proposed AD

This airplane model is manufactured in France and is type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 90-03-08 and would remove certain requirements of the existing AD. This proposed AD would also reduce the repetitive interval of the eddy current inspections of the APU bleed-air line. This proposed AD would also require an inspection for missing or damaged sealant of the area between the outer attachment angle and circumferential joint doubler, and corrective action if necessary. This proposed AD would also require additional inspections for corrosion of certain areas and repetitive inspections for airplanes on which repairs have been done.

Differences Between the Proposed AD and the Service Bulletin

Unlike the procedures described in the service bulletin, this proposed AD would not permit further flight if cracks or corrosion are detected within limits specified in the service bulletin. We have determined that, because of the safety implications and consequences associated with that cracking or corrosion, repairs must be done before further flight.

The service bulletin specifies to contact the manufacturer for instructions on how to repair certain conditions, but this proposed AD would require repairing those conditions using a method that we or the European Aviation Safety Agency (EASA) (or its delegated agent) approve. In light of the type of repair that would be required to address the unsafe condition, and consistent with existing bilateral airworthiness agreements, we have determined that, for this proposed AD, a repair we or the EASA approve would be acceptable for compliance with this proposed AD.

The service bulletin specifies to “visually inspect” for missing or damaged sealant. We have determined that this inspection should be described as a “general visual inspection.” Note 2 has been included in this proposed AD to define this type of inspection.

Clarification of Requirement of Certain Inspections

Airbus Service Bulletin A300-53-218, Revision 1, describes repetitive inspections of the area between the outer attachment angle and circumferential joint doubler to determine if sealant is missing or damaged and corrective action if necessary. The corrective action includes removing damaged sealant and applying new sealant to areas where sealant is missing or removed. AD 90-03-08 did not specifically require that inspection. Revision 02 of Airbus Service Bulletin A300-53-0218 also includes the inspection for missing or damaged sealant. To ensure that the inspection is being done we have added paragraphs (i) and (j) to this proposed AD. Doing this inspection and corrective action addresses the identified unsafe condition.

Airbus Service Bulletin A300-53-218, Revision 1, describes procedures for doing initial and repetitive non-destructive test (NDT) inspections for corrosion and cracks of the outboard sides of certain stringers and of the apertures for the APU bleed-air and fuel. AD 90-03-08 did not require an inspection for corrosion of those areas (AD 90-03-08 requires NDT inspections of those areas for cracking only; certain NDT inspections cannot detect corrosion). Revision 02 of Airbus Service Bulletin A300-53-0218 also specifies procedures to do NDT inspections of those areas for cracking and corrosion. To inspect those areas for corrosion, detailed visual inspections must be done. Therefore, paragraph (l) has been included in this proposed AD to clarify that, for eddy current (NDT) inspections performed after the effective date of this AD, accomplishment of a detailed inspection for corrosion must be done at the same time as the eddy current inspection.

Clarification of Actions in AD 90-03-08

In paragraphs D.1.a. and E.1. of AD 90-03-08 we specify doing initial and repetitive X-ray inspections for cracking of the rim area of the rear pressure bulkhead as a separate action. Upon further review of Airbus Service Bulletin A300-53-218, Revision 1, we have determined that these inspections are related investigative actions to the eddy current inspections specified in paragraphs D.1.c. and E.3 of AD 90-03-08. Paragraph 3.B. (4) of Revision 02 of Airbus Service Bulletin A300-53-0218 describes these inspections in the same manner. Therefore, we have removed the X-ray inspection specified in the existing AD and added paragraph (l) to this proposed AD to ensure that this inspection is done, if necessary, depending on the results of the inspections specified in paragraphs (f)(2) and (h)(2) of this AD (specified as paragraphs D.1c. and E.3 of AD 90-03-08).

Revision 02 of Airbus Service Bulletin A300-53-0218 removes MSN 002 from the inspection of the area between STGR 25 LH and RH and removes MSNs 009 through 018 from the inspection of the area between STGR 26 LH and RH. We have revised paragraphs (f)(2)(i) and (f)(2)(ii) accordingly.

Changes to Existing AD

This proposed AD would retain certain requirements of AD 90-03-08. Since AD 90-03-08 was issued, the AD format has been revised, and certain paragraphs have been rearranged. As a result, the corresponding paragraph identifiers have changed in this proposed AD, as listed in the following table:

Revised Paragraph Identifiers
Requirement in AD 90-03-08 | Corresponding requirement in this proposed AD
Paragraph D | Paragraphs (f) and (g).
Paragraph E | Paragraph (h).
Paragraph F | Paragraph (n).

Explanation of Change to Applicability

We have changed the airplane model designations in the applicability of this proposed AD to be consistent with the parallel French airworthiness directive.

Explanation of Change Made to Existing Requirements

Where the service bulletin specifies to “visually inspect,” except for the inspection for missing or damaged sealant, and where AD 90-03-08 specifies to do a “visual inspection,” we specify to do a “detailed inspection” in this proposed AD. We have included the definition for a detailed inspection in Note 1 of this proposed AD.

Costs of Compliance

The following table provides the estimated costs for U.S. operators to comply with this proposed AD.

Estimated Costs
Action | Work hours | Average labor rate per hour | Cost per airplane | Number of U.S.-registered airplanes | Fleet cost
Inspections (required by AD 90-03-08) | 10 | $80 | $800, per inspection cycle | 51 | $40,800, per inspection cycle.
New Inspections (required by this AD) | 10 | 80 | 800, per inspection cycle | 51 | $40,800, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-6481 (55 FR 1799, January 19, 1990) and adding the following new airworthiness directive (AD):

Airbus: Docket No. FAA-2006-25423; Directorate Identifier 2006-NM-029-AD.

Comments Due Date

(a) The FAA must receive comments on this AD action by August 31, 2006.

Affected ADs

(b) This AD supersedes AD 90-03-08.

Applicability

(c) This AD applies to all Airbus Model A300 airplanes, certificated in any category; except the following airplanes:

(1) Model A300 B4-601, B4-603, B4-620, and B4-622 airplanes;

(2) Model A300 B4-605R and B4-622R airplanes;

(3) Model A300 F4-605R and F4-622R airplanes; and

(4) Airbus Model A300 C4-605R Variant F airplanes.

Unsafe Condition

(d) This AD results from reports of corrosion and cracking in the various components associated with the rear pressure bulkhead. We are issuing this AD to prevent reduced structural capability of the fuselage and consequent decompression of the airplane.

Compliance

(e) You are responsible for having the actions required by this AD performed within the compliance times specified, unless the actions have already been done.

Restatement of Certain Requirements of AD 90-03-08 With New Repetitive Intervals

Initial Inspections

(f) Within the time limits specified in paragraph (g) of this AD, conduct the inspections specified in paragraphs (f)(1) through (f)(4) of this AD in accordance with Airbus Service Bulletin A300-53-218, Revision 1, dated July 28, 1989; or Airbus Service Bulletin A300-53-0218, Revision 02, dated May 10, 2005. After the effective date of this AD, Airbus Service Bulletin A300-53-0218, Revision 02, dated May 10, 2005, must be used.

(1) Perform a detailed inspection for corrosion and cracking of the upper rim area of the rear pressure bulkhead from the aft face.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Perform an eddy current inspection for cracks from the outboard side in the applicable areas specified in paragraph (f)(2)(i) or (f)(2)(ii) of this AD.

(i) For airplanes, manufacturer's serial number (MSN) 003 through 008: Between Stringer (STGR) 25 left hand (LH) and right hand (RH).

(ii) For airplanes, MSN 019 through 305: Between STGR 26 LH and RH.

(3) Perform a detailed inspection for cracks and corrosion of the service apertures in the rear pressure bulkhead.

(4) Perform an eddy current inspection for cracks of the apertures for the auxiliary power unit (APU) bleed-air and fuel.

(g) At the applicable time specified in paragraph (g)(1) or (g)(2) of this AD, do the inspections required by paragraph (f) of this AD.

(1) For airplanes having accumulated 26,000 landings or fewer as of February 23, 1990 (the effective date of AD 90-03-08): Perform the initial inspections required by paragraph (f) of this AD, prior to the accumulation of 24,000 landings or within 2,000 landings after February 23, 1990, whichever occurs later.

(2) For airplanes having accumulated more than 26,000 landings as of February 23, 1990: Perform the initial inspections required by paragraph (f) of this AD, within 1,000 landings after February 23, 1990.

Repetitive Inspections

(h) If no cracking or corrosion is found during the inspections required by paragraph (f) of this AD, repeat the inspections specified in paragraphs (h)(1), (h)(2), (h)(3), (h)(4), and (h)(5) of this AD thereafter at the times specified in the paragraphs.

(1) Repeat the detailed inspections of the upper rim area specified in paragraph (f)(1) of this AD thereafter at intervals not to exceed 8,000 landings.

(2) Repeat the eddy current inspection from the outboard side between STGR 25 LH and RH, or STGR 26 LH and RH, as applicable, specified in paragraph (f)(2) of this AD thereafter at intervals not to exceed 8,000 landings.

(3) Repeat the detailed inspection of the service apertures specified in paragraph (f)(3) of this AD thereafter at intervals not to exceed 6,000 landings.

(4) Repeat eddy current inspections of APU fuel apertures specified in paragraph (f)(4) of this AD thereafter at intervals not to exceed 6,000 landings.

(5) At the earlier of the times specified in paragraph (g)(5)(i) and (g)(5)(ii) of this AD, do the eddy current inspection of the APU bleed-air line service aperture specified in paragraph (f)(4) of this AD. Repeat the inspection thereafter at intervals not to exceed 6,000 landing.

(i) Within 12,000 landings since the last inspection of the APU bleed-air line service aperture specified in paragraph (f)(4) of this AD.

(ii) Within 6,000 landings since the last inspection of the APU bleed-air line service aperture specified in paragraph (f)(4) of this AD or within 2,000 landings after the effective date of this AD, whichever occurs later.

New Requirements of This AD

Inspection for Sealant and Corrective Action

(i) Within the time limits specified in paragraph (j) of this AD: Do a general visual inspection of the area between the outer attachment angle and circumferential joint doubler to determine if sealant is missing or damaged and do all applicable corrective actions in accordance with the Accomplishment Instructions of Airbus Service Bulletin A300-53-0218, Revision 02, dated May 10, 2005. Do all applicable corrective actions before further flight. Repeat the inspection thereafter at intervals not to exceed 6,000 landings.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(j) At the applicable time specified in paragraph (j)(1) or (j)(2) of this AD, do the inspections required by paragraph (i) of this AD.

(1) For airplanes having accumulated 26,000 landings or fewer as of the effective date of this AD): Perform the initial inspection required by paragraph (i) of this AD, prior to the accumulation of 24,000 landings or within 2,000 landings after the effective date of this AD, whichever occurs later.

(2) For airplanes having accumulated more than 26,000 landings as of the effective date of this AD: Perform the initial inspection required by paragraph (i) of this AD, within 1,000 landings after the effective date of this AD.

Additional Inspections

(k) For airplanes on which the inspections specified in paragraphs (f)(2), (f)(4), (h)(2), and (h)(4) of this AD are accomplished after the effective date of this AD: Where this AD requires an eddy current inspection for cracks, do a detailed inspection for corrosion at the same time as the eddy current inspection for cracks in accordance with the Accomplishment Instructions of Airbus Service Bulletin A300-53-0218, Revision 02, dated May 10, 2005.

(l) For airplanes on which the inspections specified in paragraphs (f)(2) and (h)(2) of this AD are accomplished after the effective date of this AD: If any crack is found during any inspection required by paragraph (f)(2) or (h)(2), before further flight, do an X-ray inspection for cracking of the rim area of the rear pressure bulkhead in the area of STGR 21 LH and RH in accordance with the Accomplishment Instructions of Airbus Service Bulletin A300-53-0218, Revision 02, dated May 10, 2005.

New Repetitive Inspections

(m) For airplanes on which a repair has been done in accordance with Airbus Service Bulletin A300-53-218, Revision 1, dated July 28, 1989; or Airbus Service Bulletin A300-53-0218, Revision 02, dated May 10, 2005; before the effective date of this AD: At the later of the times specified in paragraphs (m)(1) and (m)(2) of this AD, do the inspections specified in paragraphs (h), (k), and (l) of this AD. Repeat the inspections specified in paragraphs (h), (k), and (l) of this AD thereafter at the applicable times specified in paragraph (h).

(1) Within the times specified in paragraph (h) of this AD.

(2) Within 2,000 landings after the effective date of this AD.

Corrective Actions for Cracking and Corrosion and Repetitive Inspections

(n) If cracking or corrosion is found during any inspection required by paragraph (f), (h), (k), (l) or (m) of this AD, repair prior to further flight, in accordance with the Accomplishment Instructions of Airbus Service Bulletin A300-53-218, Revision 1, dated July 28, 1989; or Airbus Service Bulletin A300-53-0218, Revision 02, dated May 10, 2005. As of the effective date of this AD, do the repair in accordance with the Accomplishment Instructions of Airbus Service Bulletin A300-53-0218, Revision 02, dated May 10, 2005; except where the service bulletin specifies to contact the manufacturer to repair certain conditions, this AD requires repairing those conditions using a method approved by either the Manager, International Branch, ANM-116, Transport Airplane Directorate, FAA; or the European Aviation Safety Agency (EASA) (or its delegated agent). As of the effective date of this AD, repeat the inspections specified in paragraphs (h), (k), and (l) of this AD thereafter at the applicable times specified in paragraph (h).

Alternative Methods of Compliance (AMOCs)

(o)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 90-03-08 are not approved as AMOCs with this AD.

Related Information

French airworthiness directive F-2005-093 R1, dated August 3, 2005, also addresses the subject of this AD.

Issued in Renton, Washington, on July 21, 2006.
Ali Bahrami,
Manager, Transport Airplane Directorate, Aircraft Certification Service.

[FR Doc. E6-12301 Filed 7-31-06; 8:45 am]

BILLING CODE 4910-13-P